SECURITIES AND EXCHANGE COMMISSION

[Release No. 34-92331; File No. SR-CboeBZX-2021-042]

Self-Regulatory Organizations; Cboe BZX Exchange, Inc.; Notice of Withdrawal of a Proposed Rule Change To Introduce a New Data Product To Be Known as Short Sale Volume Data

July 6, 2021.

On May 28, 2021, Cboe BZX Exchange, Inc. (the “Exchange”) filed with the Securities and Exchange Commission (“Commission”), pursuant to Section 19(b)(1) of the Securities Exchange Act of 1934 (“Act”) ¹ and Rule 19b-4 thereunder,² a proposed rule change to introduce a new data product to be known as Short Sale Volume data.

¹ 15 U.S.C. 78s(b)(1).

² 17 CFR 240.19b-4.

The proposed rule change was published for comment in the Federal Register on June 16, 2021.³ On June 30, 2021, the Exchange withdrew the proposed rule change (SR-CboeBZX-2021-042).

³ See Securities Exchange Act Release No. 92148 (June 10, 2021), 86 FR 32088. Comment on the proposed rule change is located at: https://www.sec.gov/comments/sr-cboebzx-2021-042/srcboebzx2021042.htm.

For the Commission, by the Division of Trading and Markets, pursuant to delegated authority.⁴
⁴ 17 CFR 200.30-3(a)(12).
J. Matthew DeLesDernier,
Assistant Secretary.

[FR Doc. 2021-14695 Filed 7-9-21; 8:45 am]

BILLING CODE 8011-01-P